DEPARTMENT OF COMMERCE

International Trade Administration

(A-489-807)

Notice of Amended Final Results and Rescission of Antidumping Duty Administrative Review in Part: Certain Steel Concrete Reinforcing Bars From Turkey

AGENCY: Import Administration, International Trade Administration, Department of Commerce.

EFFECTIVE DATE: December 18, 2006.

FOR FURTHER INFORMATION CONTACT: Irina Itkin or Alice Gibbons, AD/CVD Operations, Office 2, Import Administration, International Trade Administration, U.S. Department of Commerce, 14th Street and Constitution Avenue, NW, Washington, DC 20230; telephone: (202) 482-0656 or (202) 482-0498, respectively.

SUPPLEMENTARY INFORMATION:

Background

In accordance with sections 751(a)(1) and 777(i)(1) of the Tariff Act of 1930, as amended (the Act), on November 7, 2006, the Department of Commerce (the Department) published its notice of final results of antidumping duty administrative review on steel concrete reinforcing bars (rebar) from Turkey. See Certain Steel Concrete Reinforcing Bars From Turkey; Final Results and Rescission of Antidumping Duty Administrative Review in Part, 71 FR 65082 (Nov. 7, 2006) (Final Results). On November 13, 2006, we received allegations, timely filed pursuant to 19 CFR 351.224(c)(2), from Colakoglu Metalurji, A.S. (Colakoglu) and Ekinciler Demir ve Celik Sanayi A.S./Ekinciler Dis Ticaret A.S. (Ekinciler), that the Department made ministerial errors in its final results. On November 20, 2006, we received comments from the petitioners (i.e., Gerdau AmeriSteel Corporation, Commercial Metals Company, and Nucor Corporation) rebutting these allegations.

After analyzing the submissions on this topic, filed by Ekinciler, Colakoglu, and the petitioners, we have determined, in accordance with 19 CFR 351.224(e), that we made a ministerial error in our calculations performed for the final results for only one of the two respondents (i.e., Ekinciler). Specifically, we intended to calculate general and administrative (G&A) expenses and financial expenses by: 1) determining the appropriate ratios; and 2) applying them to the total cost of manufacturing originally reported by Ekinciler. However, we inadvertently included certain unrecognized depreciation expenses in the total costs to which the ratios were applied, thereby overstating the G&A and financial expenses. Correcting this error resulted in a revised margin for Ekinciler. For a detailed discussion of the ministerial error noted above, the remaining ministerial error allegations, and the Department's analysis, see the December 12, 2006, memorandum to James Maeder, Director, Office 2, from the Team entitled “Ministerial Error Allegations in the Final Results of the Antidumping Duty Administrative Review on Steel Concrete Reinforcing Bars from Turkey.”

Amended Final Results of Review

After analyzing all interested parties' comments and rebuttal comments, we have determined, in accordance with section 751(h) of the Act and 19 CFR 351.224(e), that the Department has made a ministerial error in the final results calculation for Ekinciler in this administrative review. Therefore, we are amending the final results of administrative review of rebar from Turkey for the period April 1, 2004, through March 31, 2005. As a result of correcting the ministerial error discussed above, Ekinciler's weighted-average dumping margin decreased from 8.59 to 3.16 percent. For the remaining respondents, the weighted-average dumping margins remain the same. See Final Results.

Duty Assessment and Cash Deposit Requirements

The Department shall determine, and U.S. Customs and Border Protection (CBP) shall assess, antidumping duties on all appropriate entries. In accordance with 19 CFR 351.212(b)(1), we have calculated importer-specific assessment rates by dividing the dumping margin found on the subject merchandise examined by the entered value of such merchandise. Where the importer-specific assessment rate is above de minimis, we will instruct CBP to assess antidumping duties on that importer's entries of subject merchandise. The Department will issue appropriate assessment instructions directly to CBP within 15 days of publication of these amended final results of review.

Furthermore, the following deposit requirements will be effective upon publication of these amended final results of the administrative review for shipments of the subject merchandise entered, or withdrawn from warehouse, for consumption on or after the publication date of these amended final results of administrative review, as provided by section 751(a) of the Act: (1) for subject merchandise exported by Ekinciler the cash deposit rate will be 3.16 percent; (2) for Colakolgu the cash deposit rate will remain as established in the Final Results. These deposit requirements shall remain in effect until publication of the final results of the next administrative review.

We are issuing and publishing this determination and notice in accordance with sections 751(a)(1) and 777(i)(1) of the Act.

Dated: December 12, 2006.
David M. Spooner,
Assistant Secretary for Import Administration.

[FR Doc. E6-21520 Filed 12-15-06; 8:45 am]

BILLING CODE 3510-DS-S